NATIONAL SCIENCE FOUNDATION

Advisory Panel for Integrative Activities; Notice of Meeting

In accordance with the Federal Advisory Committee Act (Pub. L. 92-463, as amended), the National Science Foundation announces the following meeting:

Name: Committee of Visitors Panel for the Experimental Program to Stimulate Competitive Research (EPSCoR), #1373.

Dates/Time: July 24, 2012; 8:00 a.m.-5:00 p.m., July 25, 2012; 8:00 a.m.-5:00 p.m.

Place: National Science Foundation, 4201 Wilson Blvd., Arlington, VA 22230, Stafford II Room 555.

Type of Meeting: Partially Open.

Contact Persons: Denise Barnes, Office Head (Acting), Uma Venkateswaran, Sian Mooney and Jeanne Small, Program Directors, Martha James, Associate Program Officer (Detail), and Elizabeth Lawrence, Program Analyst. Experimental Program to Stimulate Competitive Research (EPSCoR); Office of Integrative Activities, National Science Foundation, 4201 Wilson Boulevard, Arlington, VA 22230. Telephone: (703) 292-8683.

Purpose of Meeting: To carry out Committee of Visitors (COV) review, including examination of decisions on proposals, reviewer comments, and other privileged materials.

Agenda

July 24th, 2012

8:00 a.m.-10:15 a.m. Open session, Welcome, COV briefing

10:15 a.m.-5:00 p.m. Closed session, COV review

July 25th, 2012

8:00 a.m.- 2:00 p.m. Closed session, Report Preparation

3:00 p.m.-4:00 p.m. Closed session, Finalize COV Report

4:00 p.m.-5:00 p.m. Open session, Presentation of COV Findings

Reason for Closing: Certain sessions of the meeting are closed to the public because the Committee is reviewing proposal actions that will include privileged intellectual property and personal information that could harm individuals if they are disclosed. If discussions were open to the public, these matters that are exempt under 5 U.S.C. 552b(c)(4) and (6) of the Government in the Sunshine Act would be improperly disclosed.

Dated: July 3, 2012.
Susanne Bolton,
Committee Management Officer.

[FR Doc. 2012-16651 Filed 7-6-12; 8:45 am]

BILLING CODE 7555-01-P